DEPARTMENT OF LABOR

Employment and Training Administration

[TA-W-58,398]

The Operations Centre, Rockford, IL; Notice of Termination of Investigation

Pursuant to section 221 of the November 23, 2005 in response to a worker petition filed by a company official on behalf of workers at The Operations Centre, Rockford, Illinois.

A company official has requested that the petition be withdrawn. Consequently, the investigation has been terminated.

Signed at Washington, DC, this 28th day of December 2005.
Linda G. Poole,
Certifying Officer, Division of Trade Adjustment Assistance.

[FR Doc. E6-118 Filed 1-9-06; 8:45 am]

BILLING CODE 4510-30-P